DEPARTMENT OF ENERGY

Federal Energy Regulatory Commission

[Docket Nos. RM01-12-000, ER03-323-000ER03-323-001, ER03-323-002, and ER03-323-003]

Remedying Undue Discrimination Through Open Access Transmission Service and Standard Electricity Market Design, Midwest Independent Transmission System Operator, Inc.; Notice of Technical Conference Agenda

May 23, 2003.

As announced in the Notice of Technical Conference issued on May 8, 2003, a technical conference will be held on June 11, 2003, to discuss with states and market participants in the Midwest ISO region the timetables for addressing wholesale power market design issues and to explore ways to provide the flexibility the region may need to meet the requirements of the final rule in this proceeding. Members of the Commission will attend and participate in the discussions.

The conference will focus on the issues identified in the agenda, which is appended to this notice as Attachment A.¹ These issues were developed in conjunction with those in the region. However, participants/stakeholders may present their views on other important issues that relate to the development of the Wholesale Power Market Platform.

¹ The Commission will issue notice of, and convene, a separate technical conference to address in detail certain technical issues raised by parties in the above captioned proceedings dealing with the Midwest ISO's proposed Market Mitigation Measures, and to address issues identified in the March 13, 2003, order. See Midwest Independent Transmission System Operator Inc., 102 FERC ¶ 62,280 (2003). The details of such conference will be forthcoming.

The conference will begin at 1 p.m. central time and will adjourn at about 5 p.m. central time. It is scheduled to take place at the Doubletree Hotel, 1616 Dodge Street, Omaha, Nebraska. The conference is open for the public to attend, and registration is not required; however, in-person attendees are asked to register for the conference on-line at http://www.ferc.gov/home/conferences.asp.

Transcripts of the conference will be immediately available from Ace Reporting Company (202-347-3700 or 1-800-336-6646) for a fee. They will be available for the public on the Commission's FERRIS system seven calendar days after FERC receives the transcript. Additionally, Capitol Connection offers the opportunity to remotely listen to the conference via the Internet or a Phone Bridge Connection for a fee. Interested persons should make arrangements as soon as possible by visiting the Capitol Connection Web site at http://www.capitolconnection.gmu.edu and clicking on “FERC.” If you have any questions contact David Reininger or Julia Morelli at the Capitol Connection (703-993-3100).

Questions about the conference program should be directed to:Sarah McKinley, Manager of State Outreach, Office of External Affairs, Federal Energy Regulatory Commission, 888 First Street, NE., Washington, DC 20426. (202) 502-8368. sarah.mckinley@ferc.gov.

Magalie R. Salas,
Secretary.

Appendix A

Midwest ISO Technical Conference with States and Market Participants

1-1:10 p.m. Opening Remarks, Chairman Pat Wood, Commissioner William Massey, and Commissioner Nora Brownell.

1:10-1:20 p.m. Update on Organization of MISO States, Commissioner Susan E. Wefald, North Dakota Public Service Commission.

1:20-1:45 p.m. Midwest ISO's Wholesale Power Market Platform Overview, James Torgerson, President, Midwest ISO.

Timeline and Key Decisions for:

• Market Rules Tariff;

• Firm Transmission Rights Allocation;

• Overview of Market Mitigation.

1:45-2:45 p.m. Stakeholder Perspectives on the Wholesale Power Market Platform.

• Transmission Owners;

• Munis/Coops/Other TDUs;

• IPPs/EWGs;

• Power Marketers/Brokers;

• Eligible End-Use Customers;

• Public Consumer Group;

• Environmental/Other Stakeholder Groups;

• State Regulatory Authorities.

2:45-3 p.m. Break.

3-4:45 p.m. Discussion of timeline and planning for Midwest Power Market Platform, led by FERC and State Commissioners.

4:45-5 p.m. Next Steps—Discussion with FERC and State Commissioners.

• Resource Adequacy;

• Transmission Planning.

5 p.m. End of Conference.

[FR Doc. 03-13619 Filed 5-30-03; 8:45 am]

BILLING CODE 6717-01-P